DEPARTMENT OF AGRICULTURE

Agricultural Research Service

Notice of Intent To Grant Exclusive License

AGENCY: Agricultural Research Service, USDA.

ACTION: Notice of intent.

SUMMARY: Notice is hereby given that the U.S. Department of Agriculture, Forest Service, intends to grant to Allison Tree, LLC of Verona, Wisconsin, an exclusive license to U.S. Provisional Patent Application Serial No. 62/220,773, “DEVICE TO DETECT STRUCTURAL INTEGRITY OF TREES AND WOOD USING BOTH STRESS WAVE TIME OF FLIGHT AND FREQUENCY CAPTURES AND LIMITS” filed on September 18, 2015.

DATES: Comments must be received on or before July 13, 2016.

ADDRESSES: Send comments to: Janet I. Stockhausen, Patent Advisor, USDA Forest Service, One Gifford Pinchot Drive, Madison, Wisconsin 53726-2398.

FOR FURTHER INFORMATION CONTACT: Janet I. Stockhausen of the USDA Forest Service at the Madison address given above; telephone: (608) 231-9502; fax: (608) 231-9508; or email: jstockhausen@fs.fed.us.

SUPPLEMENTARY INFORMATION: The patent rights in this invention are co-owned by the United States of America, as represented by the Secretary of Agriculture and Allison Tree, LLC of Verona, Wisconsin. The prospective exclusive license will grant to the co-owner, Allison Tree, LLC, an exclusive license to the Federal Government's patent rights. It is in the public interest to so license this invention as Allison Tree, LLC of Verona, Wisconsin has submitted a complete and sufficient application for a license. The prospective exclusive license will be royalty-bearing and will comply with the terms and conditions of 35 U.S.C. 209 and 37 CFR 404.7. The prospective exclusive license may be granted unless, within thirty (30) days from the date of this published Notice, the Forest Service receives written evidence and argument which establishes that the grant of the license would not be consistent with the requirements of 35 U.S.C. 209 and 37 CFR 404.7.

Mojdeh Bahar,
Assistant Administrator.

[FR Doc. 2016-13831 Filed 6-10-16; 8:45 am]

BILLING CODE 3410-03-P